OFFICE OF THE UNITED STATES TRADE REPRESENTATIVE

2009 Special 301 Review: Identification of Countries Under Section 182 of the Trade Act of 1974: Request for Public Comment

AGENCY: Office of the United States Trade Representative.

ACTION: Request for written submissions from the public.

SUMMARY: Section 182 of the Trade Act of 1974 (Trade Act) (19 U.S.C. 2242) requires the United States Trade Representative (USTR) to identify countries that deny adequate and effective protection of intellectual property rights or deny fair and equitable market access to U.S. persons who rely on intellectual property protection. (The provisions of section 182 are commonly referred to as the “Special 301” provisions of the Trade Act.) In addition, the USTR is required to determine which of these countries should be identified as Priority Foreign Countries.

USTR requests written submissions from the public concerning foreign countries' acts, policies, and practices that are relevant to the decision of whether particular trading partners should be identified under section 182 of the Trade Act.

DATES: Submissions from the general public must be received on or before 10 a.m. on Tuesday, February 17, 2009. Foreign governments who chose to make written submissions may do so on or before 10 a.m. on Monday, March 2, 2009.

ADDRESSES: All comments should be sent electronically to http://www.regulations.gov, docket number USTR-2009-0001.

FOR FURTHER INFORMATION CONTACT: Jennifer Choe Groves, Senior Director for Intellectual Property and Innovation and Chair of the Special 301 Committee, Office of the United States Trade Representative, at (202) 395-4510.

SUPPLEMENTARY INFORMATION: Pursuant to section 182 of the Trade Act, USTR must identify those countries that deny adequate and effective protection for intellectual property rights or deny fair and equitable market access to U.S. persons who rely on intellectual property protection. Those countries that have the most onerous or egregious acts, policies, or practices and whose acts, policies, or practices have the greatest adverse impact (actual or potential) on relevant U.S. products are to be identified as Priority Foreign Countries. Acts, policies, or practices that are the basis of a country's designation as a Priority Foreign Country are normally the subject of an investigation under the section 301 provisions of the Trade Act.

USTR may not identify a country as a Priority Foreign Country if that country is entering into good faith negotiations, or making significant progress in bilateral or multilateral negotiations, to provide adequate and effective protection of intellectual property rights.

USTR requests that, where relevant, submissions mention particular regions, provinces, states, or other subdivisions of a country in which an act, policy, or practice deserve special attention in this year's report. Such mention may be positive or negative. For example, submissions may address China's protection and enforcement of intellectual property rights at the provincial level, including, where relevant, areas that were the focus of USTR's review of provincial and local issues in China conducted in 2008 (2008 Special 301 Report, pp. 25-33, available at http://www.ustr.gov).

Section 182 contains a special rule regarding actions of Canada affecting United States cultural industries. The USTR must identify any act, policy, or practice of Canada that affects cultural industries, which is adopted or expanded after December 17, 1992, and is actionable under Article 2106 of the North American Free Trade Agreement (NAFTA). Any act, policy, or practice so identified shall be treated the same as an act, policy, or practice which was the basis for a country's identification as a Priority Foreign Country under section 182(a)(2) of the Trade Act, unless the United States has already taken action pursuant to Article 2106 of the NAFTA.

USTR must make the above-referenced identifications within 30 days after publication of the National Trade Estimate (NTE) report, i.e., approximately April 30, 2009.

Requirements for Comments: Comments should include a description of the problems experienced and the effect of the acts, policies, and practices on U.S. industry. Comments should be as detailed as possible and should provide all necessary information for assessing the effect of the acts, policies, and practices. Any comments that include quantitative loss claims should be accompanied by the methodology used in calculating such estimated losses. Comments must be in English. All comments should be sent electronically to http://www.regulations.gov, docket number USTR-2009-0001.

To submit comments to http://www.regulations.gov, enter docket number USTR-2009-0001 on the home page and click “go.” The site will provide a search-results page listing all documents associated with this docket. Find a reference to this notice by selecting “Notice” under “Document Type” on the left side of the search-results page, and click on the link entitled “Send a Comment or Submission.” (For further information on using the http://www.regulations.gov Web site, please consult the resources provided on the Web site by clicking on “How to Use This Site” on the left side of the home page).

The http://www.regulations.gov site provides the option of providing comments by filling in a “General Comments” field, or by attaching a document. It is expected that most comments will be provided in an attached document. If a document is attached, it is sufficient to type “See attached” in the “General Comments” field.

A person requesting that information contained in a comment submitted by that person be treated as confidential business information must certify that such information is business confidential and would not customarily be released to the public by the submitter. Confidential business information must be clearly designated as such, the submission must be marked “BUSINESS CONFIDENTIAL” at the top and bottom of the cover page and each succeeding page, and should indicate using brackets the specific information which is confidential. Any comment containing business confidential information must be accompanied by a non-confidential summary of the confidential information. The non-confidential summary will be placed in the docket and open to public inspection.

USTR will maintain a docket on the 2009 Special 301 Review, accessible to the public. The public file will include non-confidential comments received by USTR from the public, including foreign governments, with respect to the 2009 Special 301 Review.

Public Inspection of Submissions: Comments will be placed in the docket and open to public inspection pursuant to 15 CFR 2006.13, except confidential business information exempt from public inspection in accordance with 15 CFR 2006.15. Comments may be viewed on the http://www.regulations.gov Web site by entering docket number USTR-2009-0001 in the search field on the home page.

Stanford K. McCoy,
Assistant USTR for Intellectual Property and Innovation.

[FR Doc. E9-1392 Filed 1-22-09; 8:45 am]

BILLING CODE 3190-W9-P